DEPARTMENT OF HEALTH AND HUMAN SERVICES

Health Resources and Services Administration

Agency Information Collection Activities: Submission for OMB Review: Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office at (301) 443-1129. The following request has been submitted to OMB for review under the Paperwork Reduction Act of 1995:

Proposed Project: ADAP Data Report—[New]

HRSA's AIDS Drug Assistance Program (ADAP) is funded through the Ryan White HIV/AIDS Program, Part B, of Title XXVI of the Public Health Service Act, which provides grants to states and territories. Each of the 50 states, the District of Columbia, Puerto Rico, and several territories receive ADAP grants. The ADAP provides medications for the treatment of HIV/AIDS. Program funds may also be used to purchase health insurance for eligible clients or for services that enhance access, adherence, and monitoring of drug treatments.

The Ryan White HIV/AIDS Program specifies HRSA's responsibilities in the administration of grant funds, the allocation of funds, the evaluation of programs for the population served, and the improvement of quality of care. Accurate records of the grantees receiving Ryan White HIV/AIDS Program funding, the services provided, and the clients served, continue to be critical issues for the implementation of the legislation and are necessary for HRSA to fulfill its responsibilities.

The ADAP Data Report (ADR) provides data on the characteristics of ADAP grantees and the clients being served with program funds. The ADR is intended to support clinical quality management, performance measurement, service delivery, and client monitoring at the system and client levels. The reporting system consists of an online data form—the Grantee Report—and a data file containing the client-level data elements. Data will be submitted every six months. The Grantee Report includes information about program administration, funding, and expenditures, in addition to the medication formulary. The client-level data include demographic, clinical, enrollment, and service data for each patient who is determined eligible and enrolled in the ADAP.

The legislation specifies grantee accountability and links budget to performance. The ADR will be used to ensure compliance with the requirements of the legislation, to evaluate the progress of programs, to monitor grantee performance, to measure the Government Performance and Results Act (GPRA) and the Performance Assessment Rating Tool (PART) goals, and to meet reporting responsibilities to the Department, Congress, and OMB.

In addition to meeting the goal of accountability to Congress, clients, advocacy groups, and the general public, information collected through the ADR is critical to HRSA and grantees for assessing the status of existing HIV-related service delivery systems, investigating trends in service utilization, and identifying the areas of greatest need.

Discussions were held with nine volunteer grantee agencies representing a variety of ADAP models, as a basis for the burden estimates for the ADR that follows. These burden estimates are presented in two tables. The first table represents the estimated burden for the first year, including the estimated time to adjust existing or develop new data collection systems to collect the elements that HRSA is requesting. This is a one-time burden for grantees and will not be a factor after the first year. The second table represents the estimated burden for subsequent years. The Grantee Report burden remains unchanged across the three years of the information collection, as the submission is consistent with current reporting requirements. The Client Report burden is expected to decrease slightly in subsequent years as grantees become more proficient with reporting client-level data, based on feedback and technical assistance resources that HRSA will provide.

The annual estimate of burden for the first year of the information collection is as follows:

Instrument | Number of respondents | Responses per respondent | Total responses | Hours per response | Total burden hours
Grantee Report | 57 | 2 | 114 | 12.50 | 1,425.00
Client Report | 57 | 2 | 114 | 34.19 | 3,897.66
Data Collection System | 57 | 1 | 57 | 826.00 | 47,082.00
Total: |  |  |  |  | 52,404.66

The annual estimate of burden for subsequent years is as follows:

Instrument | Number of respondents | Responses per respondent | Total responses | Hours per response | Total burden hours
Grantee Report | 57 | 2 | 114 | 12.50 | 1,425.00
Client Report | 57 | 2 | 114 | 24.00 | 2,736.00
Total: |  |  |  |  | 4,161.00

Written comments and recommendations concerning the proposed information collection should be sent within 30 days of this notice to the desk officer for HRSA, either by e-mail to OIRA— submission@omb.eop.gov or by fax to 202-395-6974. Please direct all correspondence to the “attention of the desk officer for HRSA.”

Dated: September 26, 2011.
Wendy Ponton,
Director, Office of Management.

[FR Doc. 2011-25339 Filed 9-30-11; 8:45 am]

BILLING CODE 4165-15-P